DEPARTMENT OF COMMERCE

International Trade Administration

[A-570-848]

Freshwater Crawfish Tail Meat From the People's Republic of China: Final Results of Antidumping Duty Administrative Review and Rescission of Review in Part

AGENCY: Import Administration, International Trade Administration, Department of Commerce.

SUMMARY: On June 8, 2009, the Department of Commerce published the preliminary results of the administrative review of the antidumping duty order on freshwater crawfish tail meat from the People's Republic of China. The review covers one exporter. The period of review is September 1, 2007, through August 31, 2008.

Based on our analysis of the comments received, we have made no changes to our margin calculations. Therefore, the final results do not differ from the preliminary results. The final weighted-average dumping margin for the reviewed firm is listed below in the section entitled “Final Results of the Review.”

DATES: Effective Date: October 9, 2009.

FOR FURTHER INFORMATION CONTACT: Dmitry Vladimirov or Minoo Hatten, AD/CVD Operations, Office 5, Import Administration, International Trade Administration, U.S. Department of Commerce, 14th Street and Constitution Avenue, NW, Washington, DC 20230; telephone: (202) 482-0665 or (202) 482-1690, respectively.

SUPPLEMENTARY INFORMATION:

Background

On June 8, 2009, the Department of Commerce (the Department) published the preliminary results of review of the antidumping duty order on freshwater crawfish tail meat from the People's Republic of China (PRC). See Freshwater Crawfish Tail Meat From the People's Republic of China: Preliminary Results of Antidumping Duty Administrative Review and Intent to Rescind Review in Part, 74 FR 27109 (June 8, 2009) (Preliminary Results). The administrative review covers Xiping Opeck Food Co., Ltd. (Xiping Opeck). We invited interested parties to comment on the preliminary results. On July 8, 2009, we received a case brief from the petitioner, the Crawfish Processors Alliance. We did not receive a rebuttal brief from Xiping Opeck. No interested party has requested a hearing. The Department has conducted this administrative review in accordance with section 751 of the Tariff Act of 1930, as amended (the Act).

Scope of the Order

The product covered by the antidumping duty order is freshwater crawfish tail meat, in all its forms (whether washed or with fat on, whether purged or un-purged), grades, and sizes; whether frozen, fresh, or chilled; and regardless of how it is packed, preserved, or prepared. Excluded from the scope of the order are live crawfish and other whole crawfish, whether boiled, frozen, fresh, or chilled. Also excluded are saltwater crawfish of any type, and parts thereof.

Freshwater crawfish tail meat is currently classifiable in the Harmonized Tariff Schedule of the United States (HTSUS) under item numbers 1605.40.10.10 and 1605.40.10.90, which are the HTSUS numbers for prepared foodstuffs, indicating peeled crawfish tail meat and other, as introduced by U.S. Customs and Border Protection (CBP) in 2000, and HTSUS numbers 0306.19.00.10 and 0306.29.00.00, which are reserved for fish and crustaceans in general. The HTSUS subheadings are provided for convenience and customs purposes only. The written description of the scope of the order is dispositive.

Rescission of Administrative Review in Part

In the Preliminary Results, we preliminarily found that Shanghai Now Again International Trading Co., Ltd. (Shanghai Now Again), and Yancheng Hi-King Agriculture Developing Co., Ltd. (Hi-King), had no shipments of subject merchandise during the period of review and we stated our intent to rescind the administrative review with respect to these companies. See Preliminary Results, 74 FR at 27110. We have received no comments concerning our intent to rescind this administrative review in part. We continue to find that Shanghai Now Again and Hi-King had no shipments of freshwater crawfish tail meat from the PRC during the period of review. In accordance with 19 CFR 351.213(d)(3), we are rescinding the review of Shanghai Now Again and Hi-King.

Surrogate Country

In the Preliminary Results, we treated the PRC as a non-market-economy (NME) country and, therefore, we calculated normal value in accordance with section 773(c) of the Act. Also, we stated that we selected India¹ as the appropriate surrogate country to use in this review because it is a significant producer of merchandise comparable to subject merchandise and it is at a level of economic development comparable to the PRC, pursuant to section 773(c)(4) of the Act. See Preliminary Results, 74 FR at 27110. No interested party commented on our designation of the PRC as an NME country or the selection of India as the primary surrogate country. Therefore, for the final results of review, we have continued to treat the PRC as an NME country and have used the same primary surrogate country, India.

¹ We have selected India as the primary surrogate country in which to value all inputs with the exception of live crawfish, the primary input, and the by-product, crawfish scrap shell. See Preliminary Results, 74 FR at 27110, for a discussion regarding the valuation of live crawfish and the selection of Indonesia as the secondary surrogate country.

Separate Rates

In proceedings involving NME countries, the Department begins with a rebuttable presumption that all companies within the country are subject to government control and, thus, should be assigned a single antidumping duty deposit rate. It is the Department's policy to assign all exporters of merchandise subject to review in an NME country this single rate unless an exporter can demonstrate that it is sufficiently independent so as to be entitled to a separate rate.

In the Preliminary Results, we found that Xiping Opeck demonstrated its eligibility for separate-rate status. See Preliminary Results, 74 FR at 27110-11. We received no comments from interested parties regarding the separate-rate status of this company. Therefore, in these final results of review, we continue to find that the evidence placed on the record of this review by Xiping Opeck demonstrates an absence of government control, both in law and in fact, with respect to its exports of the merchandise under review. Thus, we have determined that Xiping Opeck is eligible to receive a separate rate.

Analysis of Comments Received

Two issues raised in the case brief by the petitioner in this review are addressed in the “Issues and Decision Memorandum” (Decision Memo) from John M. Andersen, Acting Deputy Assistant Secretary, to Ronald K. Lorentzen, Acting Assistant Secretary, dated September 28, 2009, which is hereby adopted by this notice. A list of the issues which the petitioner has raised and to which we have responded is in the Decision Memo and attached to this notice as an Appendix. The Decision Memo, which is a public document, is on file in the CRU of the main Department of Commerce building, Room 1117, and is accessible on the Web at http://ia.ita.doc.gov/frn/index.html. The paper copy and electronic version of the Decision Memo are identical in content.

Changes Since the Preliminary Results

There are no changes in the calculations from those we completed for the Preliminary Results.

Final Results of the Review

The Department has determined that the final weighted-average dumping margin for Xiping Opeck for the period September 1, 2007, through August 31, 2008, is 0.00 percent.

Assessment

The Department intends to issue assessment instructions to CBP 15 days after the date of publication of these final results of review. Because we calculated a margin of zero percent for Xiping Opeck, we will instruct CBP to liquidate the entries of merchandise exported by Xiping Opeck without regard to antidumping duties.

Cash-Deposit Requirements

The following cash-deposit requirements will be effective upon publication of this notice of final results of administrative review for all shipments of the subject merchandise entered, or withdrawn from warehouse, for consumption on or after the date of publication as provided by section 751(a)(2)(C) of the Act: (1) for subject merchandise exported by Xiping Opeck, the cash-deposit rate will be 0.00 percent; (2) for previously reviewed or investigated companies not listed above that have separate rates, the cash-deposit rate will continue to be the company-specific rate published for the most recent period; (3) for all other PRC exporters of subject merchandise which have not been found to be entitled to a separate rate, the cash-deposit rate will be PRC-wide rate of 223.01 percent; (4) for all non-PRC exporters of subject merchandise the cash-deposit rate will be the rate applicable to the PRC entity that supplied that exporter. These deposit requirements shall remain in effect until further notice.

Notifications

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely notification of the destruction of APO materials or conversion to judicial protective order is hereby requested. Failure to comply with the regulations and terms of an APO is a sanctionable violation.

We are issuing and publishing these results in accordance with sections 751(a)(1) and 777(i) of the Act.

Dated: October 2, 2009.
Ronald K. Lorentzen,
Acting Assistant Secretary for Import Administration.

Appendix

1. Verification Requirement

2. Draft Liquidation Instructions

[FR Doc. E9-24460 Filed 10-8-09; 8:45 am]

BILLING CODE 3510-DS-S